SURFACE TRANSPORTATION BOARD

[Docket No. FD 36745]

Massachusetts Coastal Railroad, LLC—Modified Certificate of Public Convenience and Necessity

Massachusetts Coastal Railroad, LLC (Mass Coastal), a Class III rail carrier, has filed a notice for a modified certificate of public convenience and necessity ¹ under 49 CFR part 1150 subpart C—Modified Certificate of Public Convenience and Necessity, for Mass Coastal to operate the Plymouth line between milepost 1.7 at South Braintree, Mass., and milepost 27.1 at Plymouth, Mass. (the Line).

¹ Mass Coastal filed a notice on December 15, 2023, and filed an amended notice on March 29, 2023.

Mass Coastal states the Line was acquired from Penn Central Transportation Company by Massachusetts Bay Transportation Authority (MBTA) subject to an operating easement in Consolidated Rail Corporation (Conrail). (Am. Notice 5.) Conrail applied to abandon the Line under Section 308(b) of the Regional Rail Reorganization Act of 1973 (45 U.S.C. 748) in Interstate Commerce Commission (ICC) Docket No. AB 167 (Sub-No. 388), and an operating subsidy was offered by the Commonwealth of Massachusetts under agreement filed with the ICC on February 24, 1982. (Am. Notice 5.) According to Mass Coastal, the subsidy ended on May 26, 1982. (Id.) Bay Colony subsequently filed a notice for a modified certificate of public convenience and necessity, and the ICC found the Line qualified for operation under a modified rail certificate. (Id.); see Bay Colony R.R.—Modified Rail Certificate, FD 29963 (ICC served June 29, 1982). According to Mass Coastal, although Bay Colony's operating agreement with MBTA expired, MBTA agreed in a 1993 letter that Bay Colony would have the first right to negotiate to operate the Line for freight service. (Am. Notice 3-4.) Mass Coastal explains that it has entered into an agreement with Bay Colony to acquire all of Bay Colony's remaining operating rights and rail assets, including its first right to negotiate to operate the Line for freight service.² (See Am. Notice 3.) Mass Coastal states that MBTA has consented “to the extent required.” (Am. Notice 3; see also id., Ex. A (Notice to and Consent of MBTA).) Mass Coastal states that it has received an inquiry from a potential freight shipper and has begun discussions with MBTA regarding an operating agreement. (Am. Notice 4.)

² On March 29, 2024, Bay Colony filed, in Docket No. FD 29963, a notice of intent to terminate service on the Line, which will become effective on May 28, 2024. See 49 CFR 1150.24. Because Mass Coastal now has authority to commence operations at any time, see 49 CFR 1150.23(a) (“Operations may commence immediately on the filing” of the modified certificate), there will be no break in the availability of the Line for freight service.

The Line qualifies for a modified certificate of public convenience and necessity. See Common Carrier Status of States, State Agencies & Instrumentalities & Pol. Subdivs., FD 28990F (ICC served July 16, 1981); 49 CFR 1150.22. Mass Coastal states that no subsidy is involved and that there will be no preconditions that shippers must meet to receive service. (Am. Notice 6.) Mass Coastal's notice also includes a certificate of liability insurance coverage. (Am. Notice, Ex. B).

This notice will be served on the Association of American Railroads (Car Service Division), as agent for all railroads subscribing to the car-service and car-hire agreement, at 425 Third Street SW, Suite 1000, Washington, DC 20024; and on the American Short Line and Regional Railroad Association at 50 F Street NW, Suite 500, Washington, DC 20001.

Board decisions and notices are available at www.stb.gov.

Decided: April 22, 2024.
By the Board, Mai T. Dinh., Director, Office of Proceedings.
Kenyatta Clay,
Clearance Clerk.

[FR Doc. 2024-08897 Filed 4-24-24; 8:45 am]

BILLING CODE 4915-01-P